DEPARTMENT OF AGRICULTURE

Animal and Plant Health Inspection Service

[Docket No. 00-108-10]

Chronic Wasting Disease Herd Certification Program and Interstate Movement of Farmed or Captive Deer, Elk, and Moose; Program Standards

AGENCY: Animal and Plant Health Inspection Service, USDA.

ACTION: Notice and request for comments.

SUMMARY: We are giving notice of changes to the Program Standards for the chronic wasting disease (CWD) herd certification program. The CWD herd certification program is a voluntary, cooperative program that establishes minimum requirements for the interstate movement of farmed or captive cervids, provisions for participating States to administer Approved State CWD Herd Certification Programs, and provisions for participating herds to become certified as having a low risk of being infected with CWD. The Program Standards provide optional guidance, explanation, and clarification on how to meet the requirements for interstate movement and for the Herd Certification Programs. Recently, we convened a group of State, laboratory, and industry representatives to discuss possible changes to the current Program Standards. The revised Program Standards reflect these discussions, and we believe the revised version will improve understanding of the program among State and industry cooperators. We are making the revised version of the Program Standards available for review and comment.

DATES: We will consider all comments that we receive on or before March 31, 2014.

ADDRESSES: You may submit comments by either of the following methods:

• Federal eRulemaking Portal: Go to http://www.regulations.gov/#!documentDetail;D=APHIS-2006-0118-0401.

• Postal Mail/Commercial Delivery: Send your comment to Docket No. 00-108-10, Regulatory Analysis and Development, PPD, APHIS, Station 3A-03.8, 4700 River Road Unit 118, Riverdale, MD 20737-1238.

Supporting documents and any comments we receive on this docket may be viewed at http://www.regulations.gov/#!docketDetail;D=APHIS-2006-0118 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. Patrice Klein, Senior Staff Veterinarian, National Center for Animal Health Programs, Veterinary Services, APHIS, 4700 River Road Unit 43, Riverdale, MD 20737-1231; (301) 851-3435.

SUPPLEMENTARY INFORMATION: Chronic wasting disease (CWD) is a transmissible spongiform encephalopathy of cervids (members of Cervidae, the deer family) that, as of May 2011, has been found only in wild and captive animals in North America and in captive animals in the Republic of Korea. First recognized as a clinical “wasting” syndrome in 1967, the disease is typified by chronic weight loss leading to death. Species currently known to be susceptible to CWD via natural routes of transmission include Rocky Mountain elk, mule deer, white-tailed deer, black-tailed deer, sika deer, and moose.

On June 13, 2012, we published in the Federal Register (77 FR 35542-35571, Docket No. 00-108-8) an interim final rule ¹ that made effective on August 13, 2012, a final rule published on July 21, 2006 (71 FR 41682-41707, Docket No. 00-108-3), with changes to the final rule as discussed in a previous proposal and in the interim final rule itself. This action established a voluntary herd certification program in 9 CFR part 55 for CWD in farmed or captive cervids. States that choose to participate must establish State Approved Herd Certification Programs in which States agree to perform tasks and meet requirements to ensure that the program is being effectively administered. Owners of deer, elk, and moose herds who choose to participate in the approved State programs must follow the program requirements for animal identification, testing, herd management, and movement of animals into and from herds.

¹ To view the interim final rule and the comments we received, go to http://www.regulations.gov/#!docketDetail;D=APHIS-2006-0118.

The interim final rule also established a new part 81 containing interstate movement requirements designed to prevent the spread of CWD through the movement of farmed or captive deer, elk, or moose. The interim final rule set a compliance date of December 10, 2012, for the interstate movement provisions in 9 CFR part 81, to give States and producers time to come into compliance with the herd certification program requirements in 9 CFR part 55.

The regulations for the voluntary CWD herd certification program in 9 CFR part 55 establish minimum requirements for State and herd owner participation and allow States and herd owners to use any effective means to comply with those requirements. For example, participating States are required in § 55.23(a)(6) to effectively monitor and enforce State quarantines and State reporting laws and regulations for CWD. Each State may have different means of meeting that requirement. Similarly, herd owners participating in the voluntary program must, under § 55.23(b)(2), have fencing around their premises that is adequate to prevent ingress or egress of cervids; the regulations do not specify what type of fencing is necessary to meet this requirement, allowing our guidance to change based on scientific information and experience.

To facilitate State and herd owner participation in the voluntary herd certification program, the Animal and Plant Health Inspection Service (APHIS) made available in July 2012 a document titled “Chronic Wasting Disease Program Standards.” This document provided detailed descriptions of suggested methods for complying with the requirements in 9 CFR parts 55 and 81.

During the October 2012 U.S. Animal Health Association meeting, a resolution was passed asking APHIS to work with cervid industry stakeholders to revise the CWD Program Standards. Accordingly, we convened a group of State, laboratory, and industry representatives to receive their input on potential revisions. The group met from November 2012 to June 2013 to completely review the CWD Program Standards. The revised draft, which is based on those discussions, is intended to provide more detailed guidance to States and herd owners who are seeking to participate in the Federal CWD herd certification program. As we believe the collaborative process has been helpful in revising the CWD Program Standards, we plan to work with State, laboratory, and industry representatives to review the standards at least once a year.

The new draft of the CWD Program Standards can be viewed at the CWD Web site, http://www.aphis.usda.gov/animal_health/animal_diseases/cwd/, or on Regulations.gov (see the ADDRESSES section earlier in this document for instructions on how to access Regulations.gov).

We welcome public comment on this notice and the proposed revisions to the CWD Program Standards. After considering all comments, if no substantive changes to the CWD Program Standards are deemed necessary by the APHIS Administrator, the revised CWD Program Standards will be adopted as final 30 days after the close of the comment period for this notice. If substantive changes are deemed necessary, we will publish an additional document in the Federal Register to discuss them; otherwise, the final version of the revised CWD Program Standards will be announced and made available on the CWD Web site.

Done in Washington, DC, this 20th day of December 2013.
Kevin Shea,
Administrator, Animal and Plant Health Inspection Service.

[FR Doc. 2013-31143 Filed 12-30-13; 8:45 am]

BILLING CODE 3410-34-P